DEPARTMENT OF DEFENSE

Office of the Secretary

[Docket ID: DOD-2012-OS-0088]

Privacy Act of 1974; System of Records

AGENCY: Defense Intelligence Agency, DoD.

ACTION: Notice to alter a System of Records.

SUMMARY: The Defense Intelligence Agency is proposing to alter a system in its existing inventory of records systems subject to the Privacy Act of 1974 (5 U.S.C. 552a), as amended. The blanket (k)(1) exemption applies to this systems of records to accurately describe the basis for exempting disclosure of classified information that is or may be contained in the records.

DATES: This proposed action will be effective further notice on August 27, 2012 unless comments are received which in a contrary determination.

ADDRESSES: You may submit comments, identified by docket number and title, by any of the following methods:

* Federal Rulemaking Portal: http://www.regulations.gov. Follow the instructions for submitting comments.

* Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address in FOR FURTHER INFORMATION CONTACT. The proposed system report, as required by 5 U.S.C. 552a of the Privacy Act of 1974, as amended, was submitted on July 10, 2012, to the House Committee on Oversight and Government Reform, the Senate Committee on Governmental Affairs, and the, the Office of Management and Budget (OMB) pursuant to paragraph 4c of Appendix I to OMB Circular No. A-130, “Federal Agency Responsibilities for Maintaining Records About Individuals,” dated February 8, 1996 (February 20, 1996, 61 FR 6427).

Dated: July 23, 2012.
Aaron Siegel,
Alternate OSD Federal Register Liaison Officer, Department of Defense.

LDIA 10-0002

Foreign Intelligence and Counterintelligence Operation Records (June 15, 2010, 75 FR 33791)

CHANGES:

* * * * *

SYSTEM LOCATION:

Delete entry and replace with “Defense Intelligence Agency, 200 MacDill Blvd., Washington, DC 20340-0001.”

* * * * *

CATEGORIES OF RECORDS IN THE SYSTEM:

Delete entry and replace with “Categories of records include identifying information such as name, Social Security Number (SSN), address, citizenship documentation, biometric data, passport number, vehicle identification number, and vehicle/vessel license data. Records relating to the management and coordination of DoD counterintelligence systems and activities. Records relating to analytical, operational, biographic, policy, management, training, administrative matters and operational support related to DoD counterintelligence, force protection, critical infrastructure protection, research and technology protection, threat analysis, counter-narcotics and risk assessments. Records relating to the architecture and operation of DoD counterintelligence information systems. Reports of investigation, collection, statements of individuals, affidavits, correspondence, and other documentation pertaining to investigative or analytical efforts by DoD and other U.S. government agencies to identify or counter foreign intelligence and terrorist threats to the DoD and the United States. The system of records includes ad hoc or temporary databases established to support particular investigations, task forces, or analytical projects.”

* * * * *

SYSTEM MANAGER(S) TITLE AND ADDRESS:

Delete entry and replace with “Public Affairs Officer, Office for Congressional and Public Affairs, Defense Intelligence Agency, 200 MacDill Blvd., Washington DC 20340-0001.”

NOTIFICATION PROCEDURE:

Delete entry and replace with “Individuals seeking to determine whether information about themselves is contained in this system of records should address written inquiries to the DIA Freedom of Information Act Office (DAN-1A), Defense Intelligence Agency, 200 MacDill Blvd., Washington, DC 20340-0001.

Request should contain the individual's full name, current address, and telephone number.”

RECORD ACCESS PROCEDURE:

Delete entry and replace with “Individuals seeking access to information about themselves contained in this system of records should address written inquiries to the DIA Freedom of Information Act Office, Defense Intelligence Agency (DAN-1A), 200 MacDill Blvd., Washington, DC 20340-0001.

Request should contain the individual's full name, current address, and telephone number.”

* * * * *

[FR Doc. 2012-18258 Filed 7-25-12; 8:45 am]

BILLING CODE 5001-06-P